INTERNATIONAL TRADE COMMISSION

[USITC SE-03-037]

Sunshine Act Meeting

Agency Holding the Meeting: International Trade Commission.

Time and Date: December 1, 2003 at 11 a.m.

Place: Room 101, 500 E Street SW., Washington, DC 20436, Telephone: (202) 205-2000.

Status: Open to the public.

Matters to be Considered: 1. Agenda for future meetings: None

2. Minutes

3. Ratification List

4. Inv. No. 731-TA-1056 (Preliminary) (Certain Aluminum Plate from South Africa)—briefing and vote. (The Commission is currently scheduled to transmit its determination to the Secretary of Commerce on December 1, 2003; Commissioners' opinions are currently scheduled to be transmitted to the Secretary of Commerce on or before December 8, 2003.)

5. Outstanding action jackets: None

In accordance with Commission policy, subject matter listed above, not disposed of at the scheduled meeting, may be carried over to the agenda of the following meeting.

Issued: November 20, 2003.
By order of the Commission.
Marilyn R. Abbott,
Secretary to the Commission.

[FR Doc. 03-29406 Filed 11-20-03; 11:59 am]

BILLING CODE 7020-02-P